DEPARTMENT OF DEFENSE

Office of the Secretary

Notice of the Removal of the Designation as Communist Chinese Military Companies Under the Strom Thurmond NDAA for FY99

AGENCY: Office of the Under Secretary of Defense (Acquisition and Sustainment), Department of Defense.

ACTION: Notice of Chinese military companies.

SUMMARY: The Secretary of Defense has removed the designation of “Communist Chinese military companies” from entities previously listed as such in accordance with the Strom Thurmond National Defense Authorization Act (NDAA) for Fiscal Year (FY) 1999. There are currently no entities designated as Communist Chinese military companies under this authority.

FOR FURTHER INFORMATION CONTACT: Jesse Salazar, (703) 697-0051.

SUPPLEMENTARY INFORMATION: Section 1237(b) of the Strom Thurmond NDAA for FY 1999 (Pub. L. 105-261), as amended, directs the Secretary of Defense to determine those persons operating directly or indirectly in the United States or any of its territories and possessions that are “Communist Chinese military companies” (CCMCs).

The Secretary of Defense has removed the designation of “Communist Chinese military companies” from entities previously listed as such in accordance with Section 1237 of the Strom Thurmond National Defense Authorization Act for Fiscal Year 1999 (Pub. L. 105-261).

There are currently no entities designated as Communist Chinese military companies under this authority.

Dated: June 23, 2021.
Aaron T. Siegel,
Alternate OSD Federal Register Liaison Officer, Department of Defense.

[FR Doc. 2021-13755 Filed 6-25-21; 8:45 am]

BILLING CODE 5001-06-P